DEPARTMENT OF ENERGY

Federal Energy Regulatory Commission

[Project No. P-2266-102]

Nevada Irrigation District: Notice of Reasonable Period of Time for Water Quality Certification Application

On January 22, 2026, the California State Water Resources Control Board (Water Board) submitted to the Federal Energy Regulatory Commission (Commission), notice that it received a complete application for a Clean Water Act section 401(a)(1) water quality certification as defined in 40 CFR 121.5, from the above captioned project on December 29, 2025. Pursuant to section 5.23(b) of the Commission's regulations,¹ we hereby notify the Water Board of the following:

¹ 18 CFR 5.23(b).

Date of Receipt of the Certification Request: December 29, 2025.

Reasonable Period of Time to Act on the Certification Request: December 29, 2026.

If the Water Board fails or refuses to act on the water quality certification request on or before the above date, then the certifying authority is deemed waived pursuant to section 401(a)(1) of the Clean Water Act, 33 U.S.C. 1341(a)(1).

(Authority: 18 CFR 2.1.)

Dated: January 27, 2026.
Debbie-Anne A. Reese,
Secretary.

[FR Doc. 2026-01923 Filed 1-29-26; 8:45 am]

BILLING CODE 6717-01-P